Title 3—

The President

Presidential Determination No. 2009-11 of January 15, 2009

Limited Waiver of Certain Sanctions Imposed by, and Delegation of Certain Authorities Pursuant to, the Tom Lantos Block Burmese JADE (Junta's Anti-Democratic Efforts) Act of 2008

Memorandum for the Secretary of State [and] the Secretary of the Treasury

By the authority vested in me as President by the Constitution and laws of the United States, including the Tom Lantos Block Burmese JADE (Junta's Anti-Democratic Efforts) Act of 2008 (Public Law 110-286) (JADE Act) and section 301 of title 3, United States Code, in order to ensure that the United States Government's sanctions against the Burmese leadership and its supporters continue to be implemented effectively, to allow the reconciliation of measures applicable to persons sanctioned under the JADE Act with measures applicable to the same persons sanctioned under the International Emergency Economic Powers Act (50 U.S.C. 1701 et seq.), and to allow for the implementation of additional appropriate sanctions:

(1) I hereby waive, pursuant to section 5(i) of the JADE Act, the provisions of section 5(b) of the JADE Act with respect to those persons described in section 5(a)(1) of the JADE Act who are not included on the Department of the Treasury's List of Specially Designated Nationals and Blocked Persons. Because the imposition of effective and meaningful blocking sanctions requires the identification of those individuals and entities targeted for sanction and the authorization of certain limited exceptions to the prohibitions and restrictions that would otherwise apply, I hereby determine and certify that such a limited waiver is in the national interest of the United States.

(2) I hereby delegate to the Secretary of the Treasury the waiver authority set forth in section 5(i) of the JADE Act, including the authority to invoke or revoke the waiver with respect to any person or persons or any transaction or category of transactions or prohibitions by making the necessary determination and certification regarding the national interest of the United States set forth in that section. I hereby direct the Secretary of the Treasury, after consultation with the Secretary of State and with necessary support from the Intelligence Community, as defined in section 3(4) of the National Security Act of 1947, as amended (50 U.S.C. 401a(4)), to continue to target aggressively the Burmese regime and its lines of support. I further delegate to the Secretary of the Treasury the authority to take such actions as may be necessary to carry out the purposes of section 5(b) of the JADE Act. The Secretary of the Treasury may redelegate any of these functions to other officers and agencies of the United States Government consistent with applicable law. The authorities delegated to the Secretary of the Treasury under this memorandum shall be exercised after consultation with the Secretary of State.

(3) I authorize the Secretary of State, after consultation with the Secretary of the Treasury, to take such actions as may be necessary to make the submissions to the appropriate congressional committees pursuant to section 5(d) of the JADE Act.

I hereby authorize and direct the Secretary of the Treasury to report this determination to the appropriate congressional committees and to publish it in the Federal Register.

THE WHITE HOUSE,

Washington, January 15, 2009

[FR Doc. E9-1362

Filed 1-16-09; 11:15 am]

Billing code 4811-33-P